NATIONAL TRANSPORTATION SAFETY BOARD

Notice of Meeting; Sunshine Act

Time and Date: 9:30 a.m., July 25, 2006.

Place: NTSB Conference Center, 429 L'Enfant Plaza SW., Washington, DC 20594.

Status: The one item is open to the public.

Matter to be Considered: 7755A, Marine Accident Report—Capsizing and Sinking of the New York State-Certificated Vessel Ethan Allen at Lake George, New York, on October 2, 2005.

News Media Contact: Terry Williams, Telephone: (202) 314-6100.

Individuals requesting specific accommodations should contact Chris Bisett at (202) 314-6305 by Friday, July 21, 2006.

The public may view the meeting via a live or archived webcast by accessing a link under “News & Events” on the NTSB home page at http://www.ntsb.gov.

FOR FURTHER INFORMATION CONTACT: Vicky D'Onofrio, (202) 314-6410.

Dated: July 14, 2006.
Vicky D'Onofrio,
Federal Register Liaison Officer.

[FR Doc. 06-6349 Filed 7-14-06; 2:25 am]

BILLING CODE 7533-01-M